DEPARTMENT OF COMMERCE

International Trade Administration

[A-549-848]

Truck and Bus Tires From Thailand: Initiation of Less-Than-Fair-Value Investigation

AGENCY: Enforcement and Compliance, International Trade Administration, Department of Commerce.

DATES: Applicable November 6, 2023.

FOR FURTHER INFORMATION CONTACT: Katherine Johnson or Faris Montgomery; AD/CVD Operations, Enforcement and Compliance, International Trade Administration, U.S. Department of Commerce, 1401 Constitution Avenue NW, Washington, DC 20230; telephone: (202) 482-4929 or (202) 482-1537, respectively.

SUPPLEMENTARY INFORMATION:

The Petition

On October 17, 2023, the U.S. Department of Commerce (Commerce) received an antidumping duty (AD) petition concerning imports of truck and bus tires from Thailand, filed in proper form on behalf of the United Steel, Paper and Forestry, Rubber, Manufacturing, Energy, Allied Industrial and Service Workers International Union, AFL-CIO, CLC (USW) (the petitioner), a certified union which represents workers engaged in the production of truck and bus tires in the United States.¹

¹ See Petitioner's Letter, “Petition for the Imposition of Antidumping Duties on Imports of Truck and Bus Tires from Thailand,” dated October 17, 2023 (the Petition).

On October 20 and 27, and November 1, 2023, Commerce requested supplemental information pertaining to certain aspects of the Petition.² The petitioner filed responses to these requests on October 24, 30, 31, and November 2, 2023.³

² See Commerce's Letter, “Petition for the Imposition of Antidumping Duties on Imports of Truck and Bus Tires from Thailand: Supplemental Questions,” dated October 20, 2023 (Supplemental Questionnaire); see also Memoranda, “Phone Call with Counsel to the Petitioner,” dated October 27, 2023, and “Phone Call with Counsel to the Petitioner,” dated November 1, 2023.

³ See Petitioner's Letters, “Petition Supplemental Questions Response,” dated October 24, 2023 (First Petition Supplement), “Second Petition Supplemental Questions Response,” dated October 30, 2023 (Second Petition Supplement), “Submission of Exhibit Second Supp. II-7,” dated October 31, 2023, “Submission of Exhibit Second Supp. II-7,” dated October 31, 2023, and “Petition Third Supplemental Questions Response,” dated November 2, 2023 (Third Petition Supplement).

In accordance with section 732(b) of the Tariff Act of 1930, as amended (the Act), the petitioner alleges that imports of truck and bus tires from Thailand are being, or are likely to be, sold in the United States at less than fair value (LTFV) within the meaning of section 731 of the Act, and that imports of such products are materially injuring, or threatening material injury to, the truck and bus tires industry in the United States. Consistent with section 732(b)(1) of the Act, the Petition is accompanied by information reasonably available to the petitioner supporting its allegations.

Commerce finds that the petitioner filed the Petition on behalf of the domestic industry, because the petitioner is an interested party, as defined in section 771(9)(D) of the Act.⁴ Commerce also finds that the petitioner demonstrated sufficient industry support for the initiation of the requested LTFV investigation.⁵

⁴ See Petition at Volume I at 2.

⁵ See infra, section on “Determination of Industry Support for the Petition.”

Period of Investigation

Because the Petition was filed on October 17, 2023, the period of investigation (POI) for this investigation is October 1, 2022, through September 30, 2023, pursuant to 19 CFR 351.204(b)(1).

Scope of the Investigation

The products covered by this investigation are truck and bus tires from Thailand. For a full description of the scope of this investigation, see the appendix to this notice.

Comments on the Scope of the Investigation

On October 20 and November 1, 2023, Commerce requested further information and clarification from the petitioner regarding the proposed scope to ensure that the scope language in the Petition is an accurate reflection of the products for which the domestic industry is seeking relief.⁶ On October 24 and November 2, 2023, the petitioner revised the scope.⁷ The description of the merchandise covered by this investigation, as described in the appendix to this notice, reflects these clarifications.

⁶ See Supplemental Questionnaire; see also Memorandum, dated November 1, 2023.

⁷ See First Petition Supplement at 3 and Exhibit Supp-I-1; see also Third Petition Supplement at 2 and Exhibit 1.

As discussed in the Preamble to Commerce's regulations, we are setting aside a period of time for interested parties to raise issues regarding product coverage (i.e., scope).⁸ Commerce will consider all comments received from interested parties and, if necessary, will consult with interested parties prior to the issuance of the preliminary determination. If scope comments include factual information,⁹ all such factual information should be limited to public information. To facilitate preparation of its questionnaires, Commerce requests that all interested parties submit such comments by 5 p.m. Eastern Time (ET) on November 27, 2023, which is the next business day after 20 calendar days from the signature date of this notice.¹⁰ Any rebuttal comments, which may include factual information, must be filed by 5 p.m. ET on December 7, 2023, which is ten calendar days from the initial comment deadline.

⁸ See Antidumping Duties; Countervailing Duties, Final Rule, 62 FR 27296, 27323 (May 19, 1997) (Preamble).

⁹ See 19 CFR 351.102(b)(21) (defining “factual information”).

¹⁰ The 20-day deadline falls on November 26, 2023, which is a Sunday. In accordance with 19 CFR 351.303(b)(1), Commerce will accept comments filed by 5:00 p.m. ET on November 27, 2023. Id. (“For both electronically filed and manually filed documents, if the applicable due date falls on a non-business day, the Secretary will accept documents that are filed on the next business day.”)

Commerce requests that any factual information that parties consider relevant to the scope of the investigation be submitted during that period. However, if a party subsequently finds that additional factual information pertaining to the scope of the investigation may be relevant, the party may contact Commerce and request permission to submit the additional information. All such submissions must be filed on the record of this LTFV investigation.

Filing Requirements

All submissions to Commerce must be filed electronically using Enforcement and Compliance's Antidumping Duty and Countervailing Duty Centralized Electronic Service System (ACCESS), unless an exception applies.¹¹ An electronically filed document must be received successfully in its entirety by the time and date it is due.

¹¹ See Antidumping and Countervailing Duty Proceedings: Electronic Filing Procedures; Administrative Protective Order Procedures, 76 FR 39263 (July 6, 2011); see also Enforcement and Compliance; Change of Electronic Filing System Name, 79 FR 69046 (November 20, 2014) for details of Commerce's electronic filing requirements, effective August 5, 2011. Information on help using ACCESS can be found at https://access.trade.gov/help.aspx and a handbook can be found at https://access.trade.gov/help/Handbook_on_Electronic_Filing_Procedures.pdf.

Comments on Product Characteristics

Commerce is providing interested parties an opportunity to comment on the appropriate physical characteristics of truck and bus tires to be reported in response to Commerce's AD questionnaires. This information will be used to identify the key physical characteristics of the subject merchandise in order to report the relevant costs of production accurately, as well as to develop appropriate product-comparison criteria.

Interested parties may provide any information or comments that they feel are relevant to the development of an accurate list of physical characteristics. Specifically, they may provide comments as to which characteristics are appropriate to use as: (1) general product characteristics; and (2) product comparison criteria. We note that it is not always appropriate to use all product characteristics as product comparison criteria. We base product comparison criteria on meaningful commercial differences among products. In other words, although there may be some physical product characteristics utilized by manufacturers to describe truck and bus tires, it may be that only a select few product characteristics take into account commercially meaningful physical characteristics. In addition, interested parties may comment on the order in which the physical characteristics should be used in matching products. Generally, Commerce attempts to list the most important physical characteristics first and the least important characteristics last.

In order to consider the suggestions of interested parties in developing and issuing the AD questionnaires, all product characteristics comments must be filed by 5 p.m. ET on November 27, 2023, which is the next business day after 20 calendar days from the signature date of this notice.¹² Any rebuttal comments must be filed by 5 p.m. ET on December 7, 2023, which is 10 calendar days from the initial comment deadline. All comments and submissions to Commerce must be filed electronically using ACCESS, as explained above.

¹² See 19 CFR 351.303(b)(1).

Determination of Industry Support for the Petition

Section 732(b)(1) of the Act requires that a petition be filed on behalf of the domestic industry. Section 732(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,¹³ they do so for different purposes and pursuant to a separate and distinct authority. In addition, Commerce's determination is subject to limitations of time and information. Although this may result in different definitions of the like product, such differences do not render the decision of either agency contrary to law.¹⁴

¹³ See section 771(10) of the Act.

¹⁴ See USEC, Inc. v. United States, 132 F. Supp. 2d 1, 8 (CIT 2001) (citing Algoma Steel Corp. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigation.¹⁵ Based on our analysis of the information submitted on the record, we have determined that truck and bus tires, as defined in the scope, constitute a single domestic like product, and we have analyzed industry support in terms of that domestic like product.¹⁶

¹⁵ See Petition at Volume I (pages 2-5 and Exhibits I-1 and I-3); see also First Petition Supplement at 3-6 and Exhibit Supp-I-3.

¹⁶ For a discussion of the domestic like product analysis as applied to this case and information regarding industry support, see Checklist, “Antidumping Duty Investigation Initiation Checklist: Truck and Bus Tires from Thailand,” (AD Initiation Checklist) at Attachment II, Analysis of Industry Support for the Antidumping Duty Petition Covering Truck and Bus Tires from Thailand (Attachment II). This checklist is dated concurrently with this notice and on file electronically via ACCESS.

In determining whether the petitioner has standing under section 732(c)(4)(A) of the Act, we considered the industry support data contained in the Petition with reference to the domestic like product as defined in the “Scope of the Investigation,” in the appendix to this notice. To establish industry support, the petitioner estimated the 2022 production for each U.S. producer of truck and bus tires, by plant.¹⁷ The petitioner based its estimates of 2022 truck and bus tire production on daily plant-specific production capacity data published in Modern Tire Dealer.¹⁸ The petitioner then multiplied the daily production capacity data by 360 (to estimate annual capacity).¹⁹ To calculate a capacity utilization rate for the U.S. truck and bus tires industry in 2022, the petitioner compared the 2022 U.S. production of truck and bus tires data sourced from the U.S. Tire Manufacturers Association (as reported in the February 27, 2023, edition of Tire Business) to the estimated total 2022 U.S. capacity to produce truck and bus tires.²⁰ To calculate plant-specific total 2022 production of the domestic like product, the petitioner applied the estimated capacity utilization rate to the total annualized capacity of each plant represented by the USW as well as each non-petitioning plant.²¹ To calculate industry support, the petitioner divided the estimated 2022 production of the domestic like product for those plants represented by the USW by the estimated production of the domestic like product in 2022 for the entire U.S. truck and bus tires industry.²² We relied on data provided by the petitioner for purposes of measuring industry support.²³

¹⁷ See Petition at Volume I (pages 6-8 and Exhibit I-3); see also First Petition Supplement at Exhibit Supp-I-8.

¹⁸ See Petition at Volume I (pages 6-8 and Exhibit I-3); see also First Petition Supplement at 6-7 and Exhibit Supp-I-8.

¹⁹ See Petition at Volume I (pages 7-8 and Exhibit I-3); see also First Petition Supplement at 7 and Exhibit Supp-I-8.

²⁰ See First Petition Supplement at 7-8 and Exhibits Supp-I-7 and Supp-I-8.

²¹ See Petition at Volume I (pages 6-8 and Exhibit I-3); see also First Petition Supplement at 7-8 and Exhibit Supp-I-8.

²² See Petition at Volume I (page 8); see also First Petition Supplement at 6-7 and Exhibit Supp-I-8.

²³ See Petition at Volume I (pages 5-8 and Exhibit I-3); see also First Petition Supplement at 6-8 and Exhibits Supp-I-7 and Supp-I-8. For further discussion, see AD Initiation Checklist at Attachment II.

On October 30, 2023, we received comments on industry support from American Omni Trading Company, LLC (Omni), a U.S. importer of truck and bus tires from Thailand.²⁴ On November 1, 2023, the petitioner provided rebuttal comments.²⁵

²⁴ See Omni's Letter, “Comments on Industry Support,” dated October 30, 2023.

²⁵ See Petitioner's Letter, “Rebuttal to Industry Support Comments,” dated November 1, 2023 (Petitioner's Response).

Our review of the data provided in the Petition, the First Petition Supplement, Petitioner's Response, and other information readily available to Commerce indicates that the petitioner has established industry support for the Petition. First, the Petition established support from domestic producers (or workers) accounting for more than 50 percent of the total production of the domestic like product, and, as such, Commerce is not required to take further action in order to evaluate industry support (e.g., polling).²⁶ Second, the domestic producers (or workers) have met the statutory criteria for industry support under section 732(c)(4)(A)(i) of the Act because the domestic producers (or workers) who support the Petition account for at least 25 percent of the total production of the domestic like product.²⁷ Finally, the domestic producers (or workers) have met the statutory criteria for industry support under section 732(c)(4)(A)(ii) of the Act because the domestic producers (or workers) who support the Petition account for more than 50 percent of the production of the domestic like product produced by that portion of the industry expressing support for, or opposition to, the Petition.²⁸ Accordingly, Commerce determines that the Petition was filed on behalf of the domestic industry within the meaning of section 732(b)(1) of the Act.²⁹

²⁶ See AD Initiation Checklist at Attachment II; see also section 732(c)(4)(D) of the Act.

²⁷ See AD Initiation Checklist at Attachment II.

²⁸ Id.

²⁹ Id.

Allegations and Evidence of Material Injury and Causation

The petitioner alleges that the U.S. industry producing the domestic like product is being materially injured, or is threatened with material injury, by reason of the imports of the subject merchandise sold at LTFV. In addition, the petitioner alleges that subject imports exceed the negligibility threshold provided for under section 771(24)(A) of the Act.³⁰

³⁰ See Petition at Volume I (page 15 and Exhibit I-4).

The petitioner contends that the domestic industry's injured condition is illustrated by a significant volume of subject imports; reduced market share; underselling and price depression and/or suppression; decline in capacity utilization and U.S. shipments; and adverse impact on financial performance.³¹ We assessed the allegations and supporting evidence regarding material injury, threat of material injury, causation, as well as negligibility, and we have determined that these allegations are properly supported by adequate evidence, and meet the statutory requirements for initiation.³²

³¹ Id. at 15-25 and Exhibits I-3, I-4, and I-10 through I-12; see also First Petition Supplement at 8 and Exhibits Supp-I-9 and Supp-I-10.

³² See AD Initiation Checklist at Attachment III, Analysis of Allegations and Evidence of Material Injury and Causation for the Antidumping Duty Petition Covering Truck and Bus Tires from Thailand (Attachment III).

Allegations of Sales at LTFV

The following is a description of the allegations of sales at LTFV upon which Commerce based its decision to initiate a LTFV investigation of truck and bus tires from Thailand. The sources of data for the deductions and adjustments relating to U.S. price and normal value (NV) are discussed in greater detail in the AD Initiation Checklist.

U.S. Price

The petitioner based the export price (EP) on the average unit value (AUV) derived from official import statistics for imports of truck and bus tires from Thailand into the United States during the POI. The petitioner made certain adjustments to U.S. price for movement expenses, to calculate a net ex-factory U.S. price.³³

³³ See AD Initiation Checklist.

Normal Value ³⁴

³⁴ In accordance with section 773(b)(2) of the Act, for this investigation, Commerce will request information necessary to calculate the constructed value (CV) and cost of production (COP) to determine whether there are reasonable grounds to believe or suspect that sales of the foreign like product have been made at prices that represent less than the COP of the product.

The petitioner based NV on home market prices obtained through market research for truck and bus tires produced in and sold, or offered for sale, in Thailand during the POI. The petitioner provided information indicating that the prices for truck and bus tires sold or offered for sale in Thailand were below the COP; therefore, the petitioner calculated NV based on CV.³⁵ For further discussion of CV, see the section “Normal Value Based on Constructed Value,” below.

³⁵ See AD Initiation Checklist.

Constructed Value

As noted above, the petitioner provided information indicating that the prices for truck and bus tires sold or offered for sale in Thailand were below COP. Therefore, the petitioner based NV on CV. Pursuant to section 773(e) of the Act, the petitioner calculated CV as the sum of the cost of manufacturing (COM), selling, general, and administrative (SG&A) expenses, financial expenses, and profit.³⁶

³⁶ Id.

As the petitioner is a union representing workers in the domestic industry producing truck and bus tires and is not a domestic producer, the petitioner contends it does not have access to the confidential information on actual production costs experienced by either the domestic or the foreign producers.³⁷ Therefore, in calculating the COM, the petitioner relied on publicly available information regarding the direct materials used to manufacture truck and bus tires, derived from a number of published studies.³⁸ Using this information, the petitioner calculated the average percentage of total tire weight represented by direct materials for truck and bus tires and valued these inputs using publicly available information applicable to Thailand.³⁹ In calculating labor, energy, SG&A, financial expenses, and profit ratios, the petitioner relied on the financial statements of producers of identical merchandise in Thailand.⁴⁰

³⁷ See Petition at Volume II (page II-5); see also AD Initiation Checklist.

³⁸ See AD Initiation Checklist.

³⁹ Id.

⁴⁰ Id.

Fair Value Comparisons

Based on the data provided by the petitioner, there is reason to believe that imports of truck and bus tires from Thailand are being, or are likely to be, sold in the United States at LTFV. Based on a comparison of EP to NV, in accordance with sections 772 and 773 of the Act, the estimated dumping margin for truck and bus tires from Thailand is 48.39 percent.⁴¹

⁴¹ Id.

Initiation of LTFV Investigation

Based upon the examination of the Petition and supplemental responses, we find that they meet the requirements of section 732 of the Act. Therefore, we are initiating a LTFV investigation to determine whether imports of truck and bus tires from Thailand are being, or are likely to be, sold in the United States at LTFV. In accordance with section 733(b)(1)(A) of the Act and 19 CFR 351.205(b)(1), unless postponed, we will make our preliminary determination no later than 140 days after the date of this initiation.

Respondent Selection

In the Petition, the petitioner named 16 companies in Thailand as producers/exporters of truck and bus tires.⁴² Following standard practice in AD investigations involving market economy countries, in the event Commerce determines that the number of exporters or producers in any individual case is large such that Commerce cannot individually examine each company based upon its resources, where appropriate, Commerce intends to select mandatory respondents in that case based on U.S. Customs and Border Protection (CBP) data for U.S. imports under the appropriate Harmonized Tariff Schedule of the United States numbers listed in the “Scope of the Investigation,” in the appendix.

⁴² See Petition at Volume I (Exhibit I-8).

On November 1, 2023, Commerce released CBP data on imports of truck and bus tires under Administrative Protective Order (APO) to all parties with access to information protected by APO and indicated that interested parties wishing to comment on CBP data must do so within three business days of the publication date of the notice of initiation of this investigation.⁴³ Commerce will not accept rebuttal comments regarding the CBP data or respondent selection.

⁴³ See Memorandum, “Release of U.S. Customs and Border Protection Data,” dated November 1, 2023.

Interested parties must submit applications for disclosure under APO in accordance with 19 CFR 351.305(b). Instructions for filing such applications may be found on Commerce's website at http://enforcement.trade.gov/apo.

Comments must be filed electronically using ACCESS. An electronically-filed document must be received successfully in its entirety via ACCESS by 5:00 p.m. ET on the specified deadline.

Distribution of Copies of the Petition

In accordance with section 732(b)(3)(A) of the Act and 19 CFR 351.202(f), a copy of the public version of the Petition has been provided to the government of Thailand via ACCESS. To the extent practicable, we will attempt to provide a copy of the public version of the Petition to each exporter named in the Petition, as provided under 19 CFR 351.203(c)(2).

ITC Notification

Commerce will notify the ITC of its initiation, as required by section 732(d) of the Act.

Preliminary Determination by the ITC

The ITC will preliminarily determine, within 45 days after the date on which the Petition was filed, whether there is a reasonable indication that subject imports are materially injuring or threatening material injury to a U.S. industry.⁴⁴ A negative ITC determination will result in the investigation being terminated.⁴⁵ Otherwise, this LTFV investigation will proceed according to statutory and regulatory time limits.

⁴⁴ See section 733(a) of the Act.

⁴⁵ Id.

Submission of Factual Information

Factual information is defined in 19 CFR 351.102(b)(21) as: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁴⁶ and, if the information is submitted to rebut, clarify, or correct factual information already on the record, to provide an explanation identifying the information already on the record that the factual information seeks to rebut, clarify, or correct.⁴⁷ Time limits for the submission of factual information are addressed in 19 CFR 351.301, which provides specific time limits based on the type of factual information being submitted. Interested parties should review the regulations prior to submitting factual information in this investigation.

⁴⁶ See 19 CFR 351.301(b).

⁴⁷ See 19 CFR 351.301(b)(2).

Particular Market Situation Allegation

Section 773(e) of the Act addresses the concept of particular market situation (PMS) for purposes of CV, stating that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

Neither section 773(e) of the Act, nor 19 CFR 351.301(c)(2)(v), sets a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of a respondent's initial response to section D of the AD questionnaire.

Extensions of Time Limits

Parties may request an extension of time limits before the expiration of a time limit established under 19 CFR 351.301, or as otherwise specified by Commerce. In general, an extension request will be considered untimely if it is filed after the expiration of the time limit established under 19 CFR 351.301. For submissions that are due from multiple parties simultaneously, an extension request will be considered untimely if it is filed after 10 a.m. ET on the due date. Under certain circumstances, Commerce may elect to specify a different time limit by which extension requests will be considered untimely for submissions which are due from multiple parties simultaneously. In such a case, Commerce will inform parties in a letter or memorandum of the deadline (including a specified time) by which extension requests must be filed to be considered timely. An extension request must be made in a separate, stand-alone submission. Commerce will grant untimely filed requests for the extension of time limits only in limited cases where we determine, based on 19 CFR 351.302, that extraordinary circumstances exist. Parties should review Commerce's regulations concerning extensions prior to submitting extension requests or factual information in this investigation.⁴⁸

⁴⁸ See 19 CFR 351.302; see also, e.g., Extension of Time Limits; Final Rule, 78 FR 57790 (September 20, 2013), available at http://www.gpo.gov/fdsys/pkg/FR-2013-09-20/html/2013-22853.htm.

Certification Requirements

Any party submitting factual information in an AD or countervailing duty (CVD) proceeding must certify to the accuracy and completeness of that information.⁴⁹ Parties must use the certification formats provided in 19 CFR 351.303(g).⁵⁰ Commerce intends to reject factual submissions if the submitting party does not comply with the applicable certification requirements.

⁴⁹ See section 782(b) of the Act.

⁵⁰ See Certification of Factual Information to Import Administration During Antidumping and Countervailing Duty Proceedings, 78 FR 42678 (July 17, 2013) (Final Rule). Answers to frequently asked questions regarding the Final Rule are available at http://enforcement.trade.gov/tlei/notices/factual_info_final_rule_FAQ_07172013.pdf.

Notification to Interested Parties

Interested parties must submit applications for disclosure under APO in accordance with 19 CFR 351.305. Parties wishing to participate in this investigation should ensure that they meet the requirements of 19 CFR 351.103(d) (e.g., by filing the required letter of appearance). Note that Commerce has modified its regulations to make permanent certain changes to its service procedures that were adopted on a temporary basis due to COVID-19, as well as to make additional clarifications and corrections to its AD/CVD regulations.⁵¹

⁵¹ Effective October 30, 2023, these changes will apply to all AD/CVD proceedings that are ongoing on the effective date and all AD/CVD proceedings initiated on or after the effective date. See Administrative Protective Order, Service, and Other Procedures in Antidumping and Countervailing Duty Proceedings, 88 FR 67069 (September 29, 2023).

This notice is issued and published pursuant to sections 732(c)(2) and 777(i) of the Act, and 19 CFR 351.203(c).

Dated: November 6, 2023.
Abdelali Elouaradia,
Deputy Assistant Secretary for Enforcement and Compliance.

Appendix—Scope of the Investigation

The scope of the investigation covers truck and bus tires. Truck and bus tires are new pneumatic tires, of rubber, with a truck or bus size designation. Truck and bus tires covered by the scope may be tube-type, tubeless, radial, or non-radial (also known as bias construction or bias-ply).

Subject tires have, at the time of importation, the symbol “DOT” on the sidewall, certifying that the tire conforms to applicable motor vehicle safety standards. Subject tires may also have one of the following suffixes in their tire size designation, which also appear on the sidewall of the tire:

TR—Identifies tires for service on trucks or buses to differentiate them from similarly sized passenger car and light truck tires; and

HC—Identifies a 17.5 inch rim diameter code for use on low platform trailers.

All tires with a “TR” or “HC” suffix in their size designations are covered by the scope regardless of their intended use.

In addition, all tires that lack one of the above suffix markings are included in the scope, as well as all tires that include any other prefix or suffix in their sidewall markings, are included in the scope, regardless of their intended use, as long as the tire is of a size that fits trucks or busses. Sizes that fit trucks and busses include, but are not limited to, the numerical size designations listed in the “Truck-Bus” section of the Tire and Rim Association Year Book, as updated annually. The scope includes all tires that are of a size that fits trucks or busses, unless the tire falls within one of the specific exclusions set out below.

Truck and bus tires, whether or not mounted on wheels or rims, are included in the scope. However, if a subject tire is imported mounted on a wheel or rim, only the tire is covered by the scope. Subject merchandise includes truck and bus tires produced in the subject country whether mounted on wheels or rims in the subject country or in a third country. Truck and bus tires are covered whether or not they are accompanied by other parts, e.g., a wheel, rim, axle parts, bolts, nuts, etc. Truck and bus tires that enter attached to a vehicle are not covered by the scope.

Specifically excluded from the scope are the following types of tires: (1) pneumatic tires, of rubber, that are not new, including recycled and retreaded tires; (2) non-pneumatic tires, such as solid rubber tires; and (3) tires that exhibit each of the following physical characteristics: (a) the designation “MH” is molded into the tire's sidewall as part of the size designation; (b) the tire incorporates a warning, prominently molded on the sidewall, that the tire is for “Mobile Home Use Only;” and (c) the tire is of bias construction (also known as non-radial construction) as evidenced by the fact that the construction code included in the size designation molded into the tire's sidewall is not the letter “R.”

The subject merchandise is currently classifiable under Harmonized Tariff Schedule of the United States (HTSUS) subheadings: 4011.20.1015 and 4011.20.5020. Tires meeting the scope description may also enter under the following HTSUS subheadings: 4011.90.1010, 4011.90.1050, 4011.90.2010, 4011.90.2050, 4011.90.8010, 4011.90.8050, 8708.70.4530, 8708.70.4546, 8708.70.4548, 8708.70.4560, 8708.70.6030, 8708.70.6045, 8708.70.6060, and 8716.90.5059.

While HTSUS subheadings are provided for convenience and for customs purposes, the written description of the subject merchandise is dispositive.

[FR Doc. 2023-24994 Filed 11-13-23; 8:45 am]

BILLING CODE 3510-DS-P